FEDERAL COMMUNICATIONS COMMISSION

47 CFR Part 73

[DA 04-1024; MB Docket No. 02-349; RM-10600]

Radio Broadcasting Services; Encinal, TX

AGENCY: Federal Communications Commission.

ACTION: Final rule.

SUMMARY: The Audio Division, at the request of Katherine Pyeatt, allots Channel 286A at Encinal, Texas, as the community's third local FM service. Channel 286A can be allotted to Encinal, Texas, in compliance with the Commission's minimum distance separation requirements with a site restriction of 6.3 km (3.9 miles) north of Encinal. The coordinates for Channel 286A at Encinal, Texas, are 28-05-37 North Latitude and 99-20-25 West Longitude. The Mexican government has concurred in this allotment. A filing window for Channel 286A at Encinal, TX, will not be opened at this time. Instead, the issue of opening this allotment for auction will be addressed by the Commission in a subsequent Order.

DATES: Effective June 4, 2004.

FOR FURTHER INFORMATION CONTACT: Deborah Dupont, Media Bureau, (202) 418-2180.

SUPPLEMENTARY INFORMATION: This is a synopsis of the Commission's Report and Order, MM Docket No. 01-152, adopted April 14, 2004, and released April 19, 2004. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC 20554, (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 286A at Encinal.

Federal Communications Commission.
John A. Karousos,
Assistant Chief, Audio Division, Media Bureau.

[FR Doc. 04-10582 Filed 5-7-04; 8:45 am]

BILLING CODE 6712-01-P